DEPARTMENT OF DEFENSE

Department of the Army, Corps of Engineers

Notice of Intent To Prepare a Draft Environmental Impact Statement for the West Bank and Vicinity General Re-evaluation Report, Louisiana

AGENCY: Department of the Army, U.S. Army Corps of Engineers, DoD.

ACTION: Notice of intent.

SUMMARY: Pursuant to the National Environmental Policy Act (NEPA), the U.S. Army Corps of Engineers, New Orleans District (USACE) intends to prepare a Draft Integrated General Re-evaluation Report and Environmental Impact Statement (DGRR-EIS) for the West Bank and Vicinity Coastal Storm Risk Management Project. The study seeks to determine if the work necessary to sustain the 1% level of hurricane storm damage risk reduction is technically feasible, environmentally acceptable, and economically justified.

ADDRESSES: Questions or comments about the proposed action or requests to be added to the project mailing list should be directed to Mr. Bradley Drouant, P.E., CEMVN-PMO-L, Room 361, 7400 Leake Avenue, New Orleans, LA 70118; CEMVN-WBVGRR@usace.army.mil. For additional information, please visit the following website: https://www.mvn.usace.army.mil/About/Projects/BBA-2018/studies/.

FOR FURTHER INFORMATION CONTACT: Mr. Bradley Drouant, (504) 862-1516.

SUPPLEMENTARY INFORMATION: The lead agency for this proposed action is the USACE. The Louisiana Coastal Protection and Restoration Authority (CPRA) is the non-Federal sponsor.

1. Authority. The USACE is preparing the DGRR-EIS under the authority of Section 3017 of WRRDA 2014. Public Law 115-123 (Bipartisan Budget Act of 2018) funded the study as a new start. The study phase is 100% federal funding.

2. Background. The devastation to New Orleans and the Gulf Coast from Hurricanes Katrina and Rita included the loss of over 1,800 lives, it temporarily and permanently displaced many thousands of residents, and resulted in estimated property damages in excess of $40 billion in New Orleans and as much as $100 billion along the Gulf Coast.

After the devastation of the 2005 hurricane season, the U.S. embarked on one of the largest civil works projects ever undertaken, at an estimated cost of $14 billion. The project included restoration, accelerated construction, improvements, and enhancements of various risk reduction projects within southeastern Louisiana, including the Lake Pontchartrain and Vicinity, Louisiana Project (LPV) and the West Bank and Vicinity, Louisiana Project (WBV), jointly referred to as the Greater New Orleans Hurricane and Storm Damage Risk Reduction System (HSDRRS). The completion of the levees, floodwalls, gates, and pumps that together form the HSDRRS brought 100-year level of hurricane and storm damage risk reduction to the areas within LPV and WBV.

Southeast Louisiana, including the Greater New Orleans area, is generally characterized by weak soils, general subsidence, and the global incidence of sea level rise that will cause levees to require future lifts to sustain performance of the HSDRRS. The HSDRRS project authority did not provide for future lifts. Engineering analysis indicates the HSDRRS will no longer provide 1% level of risk reduction as early as 2023. Absent future levee lifts to offset consolidation, settlement, subsidence, and sea level rise, risk to life and property in the Greater New Orleans area will progressively increase. USACE will notify FEMA once the system no longer provides the 1% level of risk reduction, which may result in the loss of accreditation required for participation in the National Flood Insurance Program.

The DGRR-EIS seeks to determine if the work necessary to sustain the 1% level of risk reduction is technically feasible, environmentally acceptable, and economically justified. The study will also consider other levels of risk reduction. A positive determination would make construction of future levee lifts eligible for future budget requests.

The significant issues that are likely to be analyzed in depth in the DGRR-EIS include: Climate; relative sea level rise; levee consolidation and compaction; annual probability of failure; life loss; economic damages; geology and soils; hydrology and hydraulics; water resources; forest and wetland resources; uplands; fisheries; essential fish habitat; wildlife; invasive species; threatened and endangered species; cultural and historical resources; scenic and aesthetic resources; recreation; air quality; noise; transportation; population and housing; employment, business, and industrial activity; public facilities and services; community and regional growth; tax revenue and property values; community cohesion; environmental justice; and hazardous, toxic, and radioactive waste.

3. Alternatives. The USACE will evaluate a range of alternatives for the proposed action including structural and nonstructural measures. The USACE will fully evaluate reasonable and practicable alternatives, including the no action alternative. Alternatives may result in avoidance, minimization, and mitigation measures to reduce or offset any impacts.

4. Public Involvement. Public involvement, an essential part of the NEPA process, is integral to assessing the environmental consequences of the proposed action and improving the quality of the environmental decision making. The public includes affected and interested Federal, state, and local agencies, Indian tribes, concerned citizens, stakeholders, and other interested parties. Public participation in the NEPA process will be strongly encouraged, both formally and informally, to enhance the probability of a more technically accurate, economically feasible, and socially acceptable EIS. Public involvement will include, but is not limited to: Information dissemination; identification of problems, needs, and opportunities; idea generation; public education; problem solving; providing feedback on proposals; evaluation of alternatives; conflict resolution; public and scoping notices and meetings; public, stakeholder, and advisory groups consultation and meetings; and making the EIS and supporting information readily available in conveniently located places, such as libraries and on the world wide web.

5. Scoping. Scoping, an early and open process for identifying the scope of significant issues related to the proposed action to be addressed in the EIS, will be used to: (a) Identify the affected public and agency concerns; (b) facilitate an efficient EIS preparation process; (c) define the issues and alternatives that will be examined in detail in the EIS; and (d) save time in the overall process by helping to ensure that the draft EIS adequately addresses relevant issues.

A Scoping Meeting Notice announcing the locations, dates and times for scoping meetings is anticipated to be posted on the project website, https://www.mvn.usace.army.mil/About/Projects/BBA-2018/studies/ and through various advertising avenues widely available to the public no later than 15 days prior to the meeting dates.

6. Environmental Consultation and Review. The USACE will serve as the lead Federal agency in the preparation of the DGRR-EIS. Other Federal and/or state agencies may participate as cooperating and/or commenting agencies throughout the study process. The U.S. Fish and Wildlife Service (USFWS) will assist in documenting existing conditions and assessing effects of project alternatives through the Fish and Wildlife Coordination Act consultation procedures. In addition, because the proposed project may affect federally listed species, the USACE will consult with the USFWS and the National Marine Fisheries Service (NMFS) in accordance with the Endangered Species Act, Section 7. The USACE will consult the NMFS regarding the effects of the project on Essential Fish Habitat per the Magnuson-Stevens Fishery Conservation and Management Act. The USACE will also consult with affected Federally Recognized Tribes. Other environmental review and consultation requirements for the proposed project include the need for Louisiana Department of Environmental Quality Clean Water Act Section 401 water quality certification and Clean Air Act coordination. The USACE will also consult with the State Historic Preservation Officer under Section 106 of the National Historic Preservation Act concerning properties listed or potentially eligible for listing. The USACE will also coordinate with the Louisiana Department of Natural Resources for coastal zone management consistency per the Coastal Zone Management Act.

7. Availability. The USACE currently estimates that the DGRR-EIS will be available for public review and comment in December 2019. At that time, the USACE will provide a 45-day public review period for individuals and agencies to review and comment. The USACE will notify all interested agencies, organizations, and individuals of the availability of the draft document at that time.

Brenda S. Bowen,
Army Federal Register Liaison Officer.

[FR Doc. 2019-06352 Filed 4-1-19; 8:45 am]

BILLING CODE 3720-58-P